DEPARTMENT OF ENERGY

Federal Energy Regulatory Commission

[Project No. 15359-001]

Notice of Application Tendered for Filing With the Commission and Soliciting Additional Study Requests and Establishing Procedural Schedule for Relicensing and a Deadline for Submission of Final Amendments; Stone Ridge Hydro, LLC

Take notice that the following hydroelectric application has been filed with the Commission and is available for public inspection.

Type of Application: New Major License.

Project No.: 15359-001.

Date Filed: March 21, 2025.

a. Applicant: Stone Ridge Hydro, LLC (Stone Ridge).

b. Name of Project: Herkimer Hydroelectric Project (Herkimer Project or project).

c. Location: On West Canada Creek in Herkimer County, New York.

d. Filed Pursuant to: Federal Power Act 16 U.S.C. 791(a)-825(r).

e. Applicant Contact: Peter J. Blanchfield, Chief Executive Officer, Stone Ridge Hydro, LLC, 16 Harrogate Road, New Hartford, NY 13413, Phone: (650) 644-6003, Email: pblanchfield@stoneridgehydro.com; Paul V. Nolan, Regulatory Consultant, 5515 17th Street North, Arlington, VA 22205-2722, Phone: (703) 587-5895, Email: pvnpvndiver@gmail.com.

f. FERC Contact: Jody Callihan at (202) 502-8278, or jody.callihan@ferc.gov.

g. Cooperating agencies: Federal, state, local, and Tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

h. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

i. Deadline for filing additional study requests and requests for cooperating agency status: May 20, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Herkimer Hydroelectric Project (P-15359-001).

j. The application is not ready for environmental analysis at this time.

k. The Herkimer Project consists of the following existing facilities: (1) a timber crib dam with a 9-foot-high, 95-foot-long east spillway section reaching a crest elevation of 420 feet mean sea level (msl), a 12-foot-high, 65-foot-long west spillway section reaching a crest elevation of 419.2 feet msl, and a 20-foot-long crest gate section with a sill elevation of 415 feet msl; (2) an impoundment with a surface area of 19 acres and a storage capacity of 163 acre-feet at a normal water surface elevation of 420.5 feet msl; (3) timber flashboards; (4) a forebay, varying in length and about 80 feet wide—the east side of the forebay structure includes an 80-kilowatt (kW) minimum flow turbine-generator unit followed by a 60-foot-long auxiliary spillway with a crest elevation of 421 feet msl; (5) four turbine-generator units with a capacity of 400 kW each downstream of the forebay; (6) a reinforced concrete and steel powerhouse/electrical building containing switchgear; (7) a 200-foot-long transmission line; and (8) appurtenant facilities.

The project has not operated since 2006 and some of the facilities noted above are in a deteriorated condition. For instance, the license application states the project's crest gate and slide gate are both inoperable and in need of repair. Stone Ridge proposes to rehabilitate the project and operate it in a similar manner to the prior project at the site (FERC No. 9709); specifically, in a run-of-river mode, with a continuous minimum flow release of 160 cubic feet per second into West Canada Creek. Stone Ridge is currently conducting environmental studies to help it develop and finalize a set of proposed protection, mitigation, and enhancement (PM&E) measures to supplement the license application. Stone Ridge estimates the rehabilitated project would have an annual generation capacity of 6,500-7,000 megawatt-hours.

l. A copy of the application can be viewed on the Commission's website at http://www.ferc.gov, using the “eLibrary” link. Enter the docket number, excluding the last three digits in the docket number field, to access the document (P-15359). For assistance, contact FERC at FERCOnlineSupport@ferc.gov, or call toll-free, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

m. Procedural schedule and final amendments: The application will be processed according to the following preliminary schedule. Revisions to the schedule will be made as appropriate.

Milestone | Target date
Issue Deficiency Letter (if necessary) | May 2025.
Request Additional Information | May 2025.
Issue Acceptance Letter | September 2025.
Issue Scoping Document 1 for comments | October 2025.
Issue Scoping Document 2 (if necessary) | December 2025.
Issue Notice of Ready for Environmental Analysis | December 2025.

Final amendments to the application must be filed with the Commission no later than 30 days from the issuance date of the notice of ready for environmental analysis.

Dated: April 3, 2025.
Debbie-Anne A. Reese,
Secretary.

[FR Doc. 2025-06073 Filed 4-8-25; 8:45 am]

BILLING CODE 6717-01-P